DEPARTMENT OF LABOR

Employment and Training Administration Program Year (PY) 2014 Workforce Investment Act (WIA) Allotments; PY 2014 Wagner-Peyser Act Final Allotments and PY 2014 Workforce Information Grants

AGENCY: Employment and Training Administration, Labor.

ACTION: Notice.

SUMMARY: This notice announces allotments for PY 2014 for WIA Title I Youth, Adults and Dislocated Worker Activities programs; final allotments for Employment Service (ES) activities under the Wagner-Peyser Act for PY 2014 and Workforce Information Grants allotments for PY 2014.

WIA allotments for States and the State final allotments for the Wagner-Peyser Act are based on formulas defined in their respective statutes. The WIA allotments for the outlying areas are based on a formula determined by the Secretary of Labor (Secretary). As required by WIA section 182(d), on February 17, 2000, a notice of the discretionary formula for allocating PY 2000 funds for the outlying areas (American Samoa, Guam, Marshall Islands, Micronesia, Northern Marianas, Palau, and the Virgin Islands) was published in the Federal Register at 65 FR 8236 (Feb. 17, 2000,) which included both the rationale for the formula and methodology. The formula that the Department of Labor (Department) developed for PY 2014 is the same formula as used for PY 2000 and is described in the section on Youth Activities program allotments. Comments are invited on the formula used to allot funds to the outlying areas.

DATES: Comments on the formula used to allot funds to the outlying areas must be received by May 12, 2014.

ADDRESSES: Submit written comments to the Employment and Training Administration (ETA), Office of Financial Administration, 200 Constitution Avenue NW., Room N-4702, Washington, DC 20210, Attention: Ms. Anita Harvey, email: harvey.anita@dol.gov.

Commenters are advised that mail delivery in the Washington area may be delayed due to security concerns. Hand-delivered comments will be received at the above address. All overnight mail will be considered to be hand-delivered and must be received at the designated place by the date specified above.

Please submit your comments by only one method. The Department will not review comments received by means other than those listed above or that are received after the comment period has closed.

Comments: The Department will retain all comments on this notice and will release them upon request via email to any member of the public. The Department also will make all the comments it receives available for public inspection by appointment during normal business hours at the above address. If you need assistance to review the comments, the Department will provide you with appropriate aids such as readers or print magnifiers. The Department will make copies of this notice available, upon request, in large print, Braille and electronic file. The Department also will consider providing the notice in other formats upon request. To schedule an appointment to review the comments and/or obtain the notice in an alternative format, contact Ms. Harvey using the information provided above. The Department will retain all comments received without making any changes to the comments, including any personal information provided. The Department therefore cautions commenters not to include their personal information such as Social Security Numbers, personal addresses, telephone numbers, and email addresses in their comments; this information would be released with the comment if the comments are requested. It is the commenter's responsibility to safeguard his or her information.

FOR FURTHER INFORMATION CONTACT: WIA Youth Activities allotments—Evan Rosenberg at (202) 693-3593 or LaSharn Youngblood at (202) 693-3606; WIA Adult and Dislocated Worker Activities and ES final allotments—Robert Kight at (202) 693-3937; Workforce Information Grant allotments—Anthony Dais at (202) 693-2784. Individuals with hearing or speech impairments may access the telephone numbers above via TTY by calling the toll-free Federal Information Relay Service at 1-877-889-5627 (TTY/TDD).

SUPPLEMENTARY INFORMATION: The Department is announcing WIA allotments for PY 2014 for Youth Activities, Adults and Dislocated Worker Activities, Wagner-Peyser Act PY 2014 final allotments, and PY 2014 Workforce Information Grant allotments. This notice provides information on the amount of funds available during PY 2014 to States with an approved WIA Title I and Wagner-Peyser Act Strategic Plan for PY 2014, and information regarding allotments to the outlying areas.

On January 17, 2014, the Consolidated Appropriations Act, 2014, Pub. L. 113-76 was signed into law (“the Act”). The Act, Division H, Title I, Section 108 of the Act allows the Secretary of Labor (Secretary) to set aside up to 0.5 percent of most operating funds. The evaluation provision is consistent with the Federal government's priority on evidence-based policy and programming and provides important opportunities to expand evaluations and demonstrations in the Department to build solid evidence about what works best. In the past, funds for ETA evaluations and demonstrations were separately appropriated and managed by ETA. This year, that separate authority has been replaced by the set aside provision. Funds are transferred to the Department's Chief Evaluation Office to implement formal evaluations and demonstrations in collaboration with ETA. For 2014, the Secretary has set aside .25 percent of the WIA Adult, Youth and Dislocated Worker program budgets for evaluation. The funding available to the Wagner-Peyser Employment Service and Workforce Information Grant programs was not reduced.

We also have attached tables listing the PY 2014 allotments for programs under WIA Title I Youth Activities (Table A), Adult and Dislocated Workers Employment and Training Activities (Tables B and C, respectively), and the PY 2014 Wagner-Peyser Act final allotments (Table D). We also have attached the PY 2014 Workforce Information Grant table (Table E).

Youth Activities Allotments. The appropriated level for PY 2014 for WIA Youth Activities totals $820,430,000. After reducing the appropriation by $2,261,000 for evaluations, $818,169,000 is available for Youth Activities. Table A includes a breakdown of the Youth Activities program allotments for PY 2014 and provides a comparison of these allotments to PY 2013 Youth Activities allotments for all States, and outlying areas. Before determining the amount available for States, the total funding available for the outlying areas was reserved at 0.25 percent of the amount appropriated for Youth Activities (after the evaluations set aside). On December 17, 2003, Public Law 108-188, the Compact of Free Association Amendments Act of 2003 (“the Compact”), was signed into law. The Compact provided for consolidation of WIA Title I funding, for the Marshall Islands and Micronesia into supplemental grants provided from the Department of Education's appropriation. See 48 U.S.C. 1921 d (f)(1)(B)(iii). The Compact also specified that the Republic of Palau remained eligible for WIA Title I funding. See 48 U.S.C. 1921d(f)(1)(B)(ix). The Consolidated Appropriations Act, 2014 (Division H, Title III, Section 306 of Pub. L. 113-76) authorized WIA Title I funding to Palau through FY 2014.

Under WIA, the Secretary has discretion for determining the methodology for distributing funds to all outlying areas. The Department used the same methodology since PY 2000 (i.e., we distribute funds among the remaining areas by formula based on relative share of number of unemployed, a 90 percent hold-harmless of the prior year share, a $75,000 minimum, and a 130 percent stop-gain for the state for the previous year). For the relative share calculation in PY 2014, the Department continued to use the data obtained from the 2010 Census for American Samoa, Guam, Commonwealth of Northern Marianas Islands, and Virgin Islands. For Palau, the Department continued to use data from Palau's 2005 Census.

For the Native American Youth program, the total amount available is 1.5 percent of the total amount for Youth Activities (after the evaluations set aside), in accordance with WIA section 127. After the Department calculated the amount for the outlying areas and Native Americans, we determined that the amount available for PY 2014 allotments to the States is $803,851,042. This total amount was below the required $1 billion threshold specified in WIA section 127(b)(1)(C)(iv)(IV); therefore, as in PY 2013, the Department did not apply the WIA additional minimum provisions. Instead, as required by WIA, the Department used the Job Training Partnership Act (JTPA) (Pub. L. 97-300), section 262(a)(3) (as amended by section 207 of the Job Training Reform Amendments of 1992, Pub. L. 102-367) minimums of 90 percent hold-harmless of the prior year allotment percentage and 0.25 percent State minimum floor. WIA also provides that no state may receive an allotment that is more than 130 percent of the allotment percentage for the State for the previous year. The three data factors required by WIA for the PY 2014 Youth Activities State formula allotments are:

(1) The average number of unemployed individuals for Areas of Substantial Unemployment (ASUs) for the 12-month period, July 2012-June 2013;

(2) Number of excess unemployed individuals or the ASU excess (depending on which is higher) averages for the same 12-month period used for ASU unemployed data; and

(3) Number of economically disadvantaged Youth (age 16 to 21, excluding college students in the workforce and military) from special tabulations of data from the American Community Survey (ACS), which the Department obtained from the Bureau in 2012. The Bureau collected the data used in the special tabulations for economically disadvantaged Youth between January 1, 2006-December 31, 2010.

Beginning this year, for purposes of identifying ASUs for the within-State Youth Activities allocation formula, States should use the data made available by BLS (as described in LAUS Technical Memorandum No. S-13-17). For purposes of determining the number of economically disadvantaged Youth for the statutory within-state allocation formula, States should continue to use the special tabulations of ACS data made available to them in 2013 and available at http://www.doleta.gov/budget/disadvantagedYouthAdults.cfm.

See TEGL No. 21-12 for further information.

Adult Employment and Training Activities Allotments. The total appropriated funds for Adult Activities in PY 2014 is $766,080,000. After reducing the appropriated amount by $2,111,000 for evaluations, $763,969,000 remains for Adult Activities, of which $762,059,077 is for States and $1,909,923 is for outlying areas. Table B shows the PY 2014 Adult Employment and Training Activities allotments and a State by State comparison of the PY 2014 allotments to PY 2013 revised allotments (after removing the sequestration applicable to the FY 2013 advance).

Like the Youth Activities program, the Department reserved the total available for the outlying areas at 0.25 percent of the full amount appropriated for Adult Activities (after the evaluations set aside). As discussed in the Youth Activities section above, WIA funding for the Marshall Islands and Micronesia is no longer provided; instead, funding is provided for these territories in the Department of Education's appropriation.

The Department distributed the Adult Activities funding for the remaining outlying areas (for which the distribution methodology is at the Secretary's discretion), using the same principles, formula and data as used for outlying areas for Youth Activities. After determining the amount for the outlying areas, the Department used the statutory formula to distribute the remaining amount available for allotments to the States. The Department did not apply the WIA minimum provisions for the PY 2014 allotments because the total amount available for the States was below the $960 million threshold required for Adult Activities in WIA section 132(b)(1)(B)(iv)(IV). Instead, as required by WIA, the Department calculated minimum allotments using the JTPA section 202(b)(2) (as amended by section 202 of the Job Training Reform Amendments of 1992) minimums of 90 percent hold-harmless of the prior year allotment percentage and 0.25 percent State minimum floor. WIA also provides that no State may receive an allotment that is more than 130 percent of the allotment percentage for the State for the previous year. The three formula data factors for the Adult Activities program are the same as those used for the Youth Activities formula, except the Department used data for the number of economically disadvantaged Adults (age 18 to 72, excluding college students in the workforce and military).

As noted above, updated data for within-state ASU calculations is available from BLS, and States should continue to use the economically disadvantaged Adults data made available to States by the Department in 2013.

Dislocated Worker Employment and Training Activities Allotments. The amount appropriated for Dislocated Worker activities in PY 2014 totals $1,222,457,000. The total appropriation includes formula funds for the States, while the National Reserve is used for National Emergency Grants, technical assistance and training, demonstration projects, and the outlying areas' Dislocated Worker allotments. After reducing the appropriated amount by $3,370,000 for evaluations, a total of $1,219,087,000 remains available for Dislocated Worker activities. The amount available for outlying areas is $3,047,718, leaving $217,201,282 for the National Reserve and a total of $998,838,000 available for States. Like the Adult program, Table C shows the PY 2014 Dislocated Worker activities allotments and a by State comparison of the PY 2014 allotments to PY 2013 revised allotments (after removing the sequestration applicable to the FY 2013 advance).

Like the Youth and Adult Activities programs, the Department reserved the total available for the outlying areas at 0.25 percent of the full amount appropriated for Dislocated Worker Activities (after the evaluations set aside). WIA funding for the Marshall Islands and Micronesia is no longer provided, as discussed above. The Department distributed the Dislocated Worker Activities funds for grants to the remaining outlying areas, over which the Secretary maintains discretion for choosing the distribution methodology, using the same pro rata share as the areas received for the PY 2014 WIA Adult Activities program, the same methodology used in PY 2013.

The three data factors required in WIA for the PY 2014 Dislocated Worker State formula allotments are:

(1) Number of unemployed, averages for the 12-month period, October 2012-September 2013;

(2) Number of excess unemployed, averages for the 12-month period, October 2012-September 2013; and

(3) Number of long-term unemployed, averages for the 12-month period, October 2012-September 2013.

Since the Dislocated Worker Activities formula has no floor amount or hold-harmless provisions, funding changes for States directly reflect the impact of changes in unemployment related data listed above.

Wagner-Peyser Act ES Final Allotments. The appropriated level for PY 2014 for ES grants totals $664,184,000. After determining the funding for outlying areas, the Department calculated allotments to States using the formula set forth at section 6 of the Wagner-Peyser Act (29 U.S.C. 49e). The Department based PY 2014 formula allotments on each State's share of calendar year 2013 monthly averages of the civilian labor force (CLF) and unemployment. Section 6(b)(4) of the Wagner-Peyser Act requires the Secretary to set aside up to three percent of the total funds available for ES to ensure that each State will have sufficient resources to maintain statewide ES activities. In accordance with this provision, the Department included the three percent set-aside funds in this total allotment. The Department distributed the set-aside funds in two steps to States that have experienced a reduction in their relative share of the total resources available this year from their relative share of the total resources available the previous year. In Step 1, States that have a CLF below one million and are also below the median CLF density were maintained at 100 percent of their relative share of prior year resources. ETA calculated the median CLF density based on CLF data provided by BLS for calendar year 2013. All remaining set-aside funds were distributed on a pro-rata basis in Step 2 to all other States experiencing reductions in relative share from the prior year but not meeting the size and density criteria for Step 1. The distribution of ES funds (Table D) includes $662,564,950 for States, as well as $1,619,050 for outlying areas.

Under section 7 of the Wagner-Peyser Act, ten percent of the total sums allotted to each State must be reserved for use by the Governor to provide performance incentives for ES offices, services for groups with special needs, and for the extra costs of exemplary models for delivering job services.

Workforce Information Grants Allotments. Total PY 2014 funding for Workforce Information Grants allotments to States is $32,000,000. The allotment figures for each State are listed in Table E. Funds are distributed by administrative formula, with a reserve of $176,800 for Guam and the Virgin Islands. Guam and the Virgin Islands allotment amounts are partially based on CLF data, which the Department updated last year with data from the 2010 Census. The Department distributes the remaining funds to the States with 40 percent distributed equally to all States and 60 percent distributed based on each State's share of CLF for the 12 months ending September 2013.

Table A—U.S. Department of Labor Employment and Training Administration WIA Youth Activities State Allotments Comparison of PY 2014 vs PY 2013
State | PY 2013 | PY 2014 | Difference | % Difference
Total with Evaluations | $781,375,289 | $820,430,000 | $39,054,711 | 5.00
Total (WIA Youth Activities) | 781,375,289 | 818,169,000 | 36,793,711 | 4.71
Alabama | 10,504,766 | 10,363,134 | (141,632) | −1.35
Alaska | 1,919,253 | 2,009,628 | 90,375 | 4.71
Arizona | 15,938,449 | 16,873,353 | 934,904 | 5.87
Arkansas | 6,367,716 | 6,814,031 | 446,315 | 7.01
California | 118,211,133 | 119,122,833 | 911,700 | 0.77
Colorado | 11,600,883 | 12,414,406 | 813,523 | 7.01
Connecticut | 8,152,502 | 9,398,657 | 1,246,155 | 15.29
Delaware | 1,919,253 | 2,009,628 | 90,375 | 4.71
District of Columbia | 2,074,840 | 2,216,117 | 141,277 | 6.81
Florida | 47,791,321 | 45,067,004 | (2,724,317) | −5.70
Georgia | 25,123,453 | 27,467,948 | 2,344,495 | 9.33
Hawaii | 2,174,842 | 2,049,527 | (125,315) | −5.76
Idaho | 3,623,538 | 3,414,748 | (208,790) | −5.76
Illinois | 33,775,763 | 38,093,547 | 4,317,784 | 12.78
Indiana | 15,696,820 | 17,756,443 | 2,059,623 | 13.12
Iowa | 4,671,103 | 4,739,579 | 68,476 | 1.47
Kansas | 5,304,061 | 5,398,508 | 94,447 | 1.78
Kentucky | 11,299,654 | 12,118,913 | 819,259 | 7.25
Louisiana | 9,733,043 | 9,327,194 | (405,849) | −4.17
Maine | 2,888,765 | 3,244,888 | 356,123 | 12.33
Maryland | 10,289,216 | 11,989,592 | 1,700,376 | 16.53
Massachusetts | 12,803,985 | 14,507,221 | 1,703,236 | 13.30
Michigan | 31,911,591 | 30,072,831 | (1,838,760) | −5.76
Minnesota | 9,841,004 | 9,947,978 | 106,974 | 1.09
Mississippi | 8,556,357 | 9,200,818 | 644,461 | 7.53
Missouri | 13,072,955 | 12,877,148 | (195,807) | −1.50
Montana | 2,105,266 | 2,152,132 | 46,866 | 2.23
Nebraska | 2,157,402 | 2,394,620 | 237,218 | 11.00
Nevada | 9,407,590 | 8,865,521 | (542,069) | −5.76
New Hampshire | 1,919,253 | 2,200,035 | 280,782 | 14.63
New Jersey | 21,422,496 | 25,513,414 | 4,090,918 | 19.10
New Mexico | 4,195,688 | 4,625,925 | 430,237 | 10.25
New York | 46,093,646 | 52,011,703 | 5,918,057 | 12.84
North Carolina | 26,575,543 | 28,871,997 | 2,296,454 | 8.64
North Dakota | 1,919,253 | 2,009,628 | 90,375 | 4.71
Ohio | 25,942,472 | 26,270,342 | 327,870 | 1.26
Oklahoma | 5,982,158 | 6,258,954 | 276,796 | 4.63
Oregon | 9,901,654 | 10,543,691 | 642,037 | 6.48
Pennsylvania | 27,854,861 | 33,509,103 | 5,654,242 | 20.30
Puerto Rico | 18,321,559 | 17,265,863 | (1,055,696) | −5.76
Rhode Island | 3,676,868 | 3,743,023 | 66,155 | 1.80
South Carolina | 12,151,961 | 12,574,365 | 422,404 | 3.48
South Dakota | 1,919,253 | 2,009,628 | 90,375 | 4.71
Tennessee | 15,045,025 | 16,496,140 | 1,451,115 | 9.65
Texas | 52,525,623 | 52,492,802 | (32,821) | −0.06
Utah | 4,562,251 | 4,304,671 | (257,580) | −5.65
Vermont | 1,919,253 | 2,009,628 | 90,375 | 4.71
Virginia | 12,509,940 | 13,392,465 | 882,525 | 7.05
Washington | 16,388,794 | 16,309,501 | (79,293) | −0.48
West Virginia | 3,904,748 | 3,957,765 | 53,017 | 1.36
Wisconsin | 12,133,146 | 13,562,824 | 1,429,678 | 11.78
Wyoming | 1,919,253 | 2,009,628 | 90,375 | 4.71
State Total | 767,701,222 | 803,851,042 | 36,149,820 | 4.71
American Samoa | 144,308 | 196,434 | 52,126 | 36.12
Guam | 813,205 | 766,348 | (46,857) | −5.76
Northern Marianas | 367,640 | 402,258 | 34,618 | 9.42
Palau | 75,000 | 75,000 | 0 | 0.00
Virgin Islands | 553,285 | 605,383 | 52,098 | 9.42
Outlying Areas Total | 1,953,438 | 2,045,423 | 91,985 | 4.71
Native Americans | 11,720,629 | 12,272,535 | 551,906 | 4.71
Evaluations set aside | 0 | 2,261,000 | 2,261,000 | N/A

Table B—U.S. Department of Labor Employment and Training Administration WIA Adult Activities State Allotments Comparison of PY 2014 vs PY 2013
State | Revised * PY 2013 | PY 2014 | Difference | % Difference
Total with Evaluations | $730,624,342 | $766,080,000 | $35,455,658 | 4.85
Total (WIA Adult Activities) | 730,624,342 | 763,969,000 | 33,344,658 | 4.56
Alabama | 10,224,272 | 10,127,957 | (96,315) | −0.94
Alaska | 1,821,995 | 1,905,148 | 83,153 | 4.56
Arizona | 15,043,959 | 15,910,029 | 866,070 | 5.76
Arkansas | 6,105,212 | 6,508,494 | 403,282 | 6.61
California | 113,293,307 | 114,152,207 | 858,900 | 0.76
Colorado | 10,810,310 | 11,534,090 | 723,780 | 6.70
Connecticut | 7,481,120 | 8,642,428 | 1,161,308 | 15.52
Delaware | 1,821,995 | 1,905,148 | 83,153 | 4.56
District of Columbia | 1,887,427 | 2,014,101 | 126,674 | 6.71
Florida | 47,321,672 | 44,979,171 | (2,342,501) | −4.95
Georgia | 24,219,435 | 26,369,329 | 2,149,894 | 8.88
Hawaii | 2,273,535 | 2,137,808 | (135,727) | −5.97
Idaho | 3,369,813 | 3,171,735 | (198,078) | −5.88
Illinois | 31,821,102 | 35,721,028 | 3,899,926 | 12.26
Indiana | 14,353,354 | 16,187,078 | 1,833,724 | 12.78
Iowa | 3,365,888 | 3,371,916 | 6,028 | 0.18
Kansas | 4,489,407 | 4,537,758 | 48,351 | 1.08
Kentucky | 11,578,115 | 12,441,851 | 863,736 | 7.46
Louisiana | 8,995,996 | 8,947,905 | (48,091) | −0.53
Maine | 2,634,399 | 2,958,900 | 324,501 | 12.32
Maryland | 9,540,964 | 11,120,651 | 1,579,687 | 16.56
Massachusetts | 11,472,764 | 12,850,371 | 1,377,607 | 12.01
Michigan | 29,714,174 | 28,122,010 | (1,592,164) | −5.36
Minnesota | 8,455,689 | 8,509,251 | 53,562 | 0.63
Mississippi | 8,167,224 | 8,783,758 | 616,534 | 7.55
Missouri | 12,131,912 | 11,979,012 | (152,900) | −1.26
Montana | 1,993,575 | 2,047,975 | 54,400 | 2.73
Nebraska | 1,821,995 | 1,905,148 | 83,153 | 4.56
Nevada | 9,193,672 | 8,620,844 | (572,828) | −6.23
New Hampshire | 1,821,995 | 1,905,148 | 83,153 | 4.56
New Jersey | 20,840,954 | 24,644,654 | 3,803,700 | 18.25
New Mexico | 4,018,529 | 4,457,154 | 438,625 | 10.92
New York | 44,780,964 | 50,339,040 | 5,558,076 | 12.41
North Carolina | 25,631,261 | 27,573,758 | 1,942,497 | 7.58
North Dakota | 1,821,995 | 1,905,148 | 83,153 | 4.56
Ohio | 24,002,258 | 24,343,116 | 340,858 | 1.42
Oklahoma | 5,774,583 | 6,047,269 | 272,686 | 4.72
Oregon | 9,495,475 | 10,108,074 | 612,599 | 6.45
Pennsylvania | 25,383,125 | 30,619,150 | 5,236,025 | 20.63
Puerto Rico | 19,382,789 | 18,344,208 | (1,038,581) | −5.36
Rhode Island | 3,196,831 | 3,230,712 | 33,881 | 1.06
South Carolina | 11,746,745 | 12,134,396 | 387,651 | 3.30
South Dakota | 1,821,995 | 1,905,148 | 83,153 | 4.56
Tennessee | 14,703,940 | 16,085,971 | 1,382,031 | 9.40
Texas | 50,144,787 | 50,065,195 | (79,592) | −0.16
Utah | 3,725,596 | 3,614,740 | (110,856) | −2.98
Vermont | 1,821,995 | 1,905,148 | 83,153 | 4.56
Virginia | 11,647,116 | 12,445,438 | 798,322 | 6.85
Washington | 15,347,510 | 15,226,047 | (121,463) | −0.79
West Virginia | 3,961,524 | 4,028,840 | 67,316 | 1.70
Wisconsin | 10,499,538 | 11,762,474 | 1,262,936 | 12.03
Wyoming | 1,821,995 | 1,905,148 | 83,153 | 4.56
State Total | 728,797,782 | 762,059,077 | 33,261,295 | 4.56
American Samoa | 136,159 | 182,941 | 46,782 | 34.36
Guam | 754,111 | 713,704 | (40,407) | −5.36
Northern Marianas | 345,847 | 374,568 | 28,721 | 8.30
Palau | 71,388 | 75,000 | 3,612 | 5.06
Virgin Islands | 519,055 | 563,710 | 44,655 | 8.60
Outlying Areas Total | 1,826,560 | 1,909,923 | 83,363 | 4.56
Evaluations set aside | 0 | 2,111,000 | 2,111,000 | N/A
* The revised PY 2013 allotments are the actual amounts the Department obligated to states for PY 2013 and include the reductions associated with sequestration on the FY 2013 advance (part of the PY 2012 allotments).

Table C—U.S. Department of Labor Employment and Training Administration WIA Dislocated Worker Activities State Allotments Comparison of PY 2014 vs PY 2013
State | Revised * PY 2013 | PY 2014 | Difference | % Difference
Total with Evaluations | $1,179,657,807 | $1,222,457,000 | $42,799,193 | 3.63
Total (WIA Dislocated Worker Activities) | 1,179,657,807 | 1,219,087,000 | 39,429,193 | 3.34
Alabama | 12,455,814 | 11,599,476 | (856,338) | −6.88
Alaska | 1,702,318 | 1,633,027 | (69,291) | −4.07
Arizona | 18,333,183 | 20,193,454 | 1,860,271 | 10.15
Arkansas | 6,881,074 | 7,814,651 | 933,577 | 13.57
California | 162,982,853 | 157,376,202 | (5,606,651) | −3.44
Colorado | 15,672,487 | 15,822,647 | 150,160 | 0.96
Connecticut | 11,913,095 | 13,243,210 | 1,330,115 | 11.17
Delaware | 2,136,390 | 2,613,882 | 477,492 | 22.35
District of Columbia | 2,733,764 | 2,998,287 | 264,523 | 9.68
Florida | 67,109,375 | 60,315,153 | (6,794,222) | −10.12
Georgia | 33,902,103 | 36,939,150 | 3,037,047 | 8.96
Hawaii | 2,658,487 | 1,852,830 | (805,657) | −30.31
Idaho | 4,113,487 | 3,461,421 | (652,066) | −15.85
Illinois | 47,415,147 | 54,907,799 | 7,492,652 | 15.80
Indiana | 19,210,950 | 22,303,621 | 3,092,671 | 16.10
Iowa | 4,479,610 | 4,164,521 | (315,089) | −7.03
Kansas | 5,244,331 | 5,471,022 | 226,691 | 4.32
Kentucky | 12,670,474 | 14,256,130 | 1,585,656 | 12.51
Louisiana | 10,343,401 | 10,286,901 | (56,500) | −0.55
Maine | 3,558,306 | 3,807,546 | 249,240 | 7.00
Maryland | 14,160,334 | 16,637,979 | 2,477,645 | 17.50
Massachusetts | 14,686,948 | 18,899,549 | 4,212,601 | 28.68
Michigan | 31,831,964 | 36,932,673 | 5,100,709 | 16.02
Minnesota | 9,577,081 | 9,452,346 | (124,735) | −1.30
Mississippi | 9,722,013 | 10,617,327 | 895,314 | 9.21
Missouri | 14,872,573 | 16,292,492 | 1,419,919 | 9.55
Montana | 1,820,084 | 1,659,822 | (160,262) | −8.81
Nebraska | 1,779,828 | 2,044,195 | 264,367 | 14.85
Nevada | 13,990,600 | 12,539,486 | (1,451,114) | −10.37
New Hampshire | 2,192,012 | 2,525,768 | 333,756 | 15.23
New Jersey | 34,280,662 | 38,580,867 | 4,300,205 | 12.54
New Mexico | 4,387,085 | 5,180,570 | 793,485 | 18.09
New York | 64,292,997 | 67,330,827 | 3,037,830 | 4.72
North Carolina | 36,354,385 | 38,671,061 | 2,316,676 | 6.37
North Dakota | 466,156 | 549,747 | 83,591 | 17.93
Ohio | 29,848,097 | 32,568,365 | 2,720,268 | 9.11
Oklahoma | 5,230,860 | 5,417,077 | 186,217 | 3.56
Oregon | 12,544,754 | 13,140,217 | 595,463 | 4.75
Pennsylvania | 35,257,512 | 43,100,393 | 7,842,881 | 22.24
Puerto Rico | 13,657,789 | 14,743,999 | 1,086,210 | 7.95
Rhode Island | 5,071,296 | 4,852,880 | (218,416) | −4.31
South Carolina | 15,453,121 | 15,546,400 | 93,279 | 0.60
South Dakota | 717,751 | 800,633 | 82,882 | 11.55
Tennessee | 18,116,992 | 20,840,426 | 2,723,434 | 15.03
Texas | 58,272,349 | 57,992,167 | (280,182) | −0.48
Utah | 4,299,449 | 3,786,657 | (512,792) | −11.93
Vermont | 864,140 | 779,524 | (84,616) | −9.79
Virginia | 15,640,645 | 15,956,793 | 316,148 | 2.02
Washington | 21,476,440 | 19,149,875 | (2,326,565) | −10.83
West Virginia | 3,992,664 | 4,272,884 | 280,220 | 7.02
Wisconsin | 14,349,020 | 16,187,134 | 1,838,114 | 12.81
Wyoming | 867,129 | 726,937 | (140,192) | −16.17
State Total | 955,591,379 | 998,838,000 | 43,246,621 | 4.53
American Samoa | 225,553 | 291,924 | 66,371 | 29.43
Guam | 1,271,032 | 1,138,877 | (132,155) | −10.40
Northern Marianas | 576,868 | 597,709 | 20,841 | 3.61
Palau | 119,619 | 119,680 | 61 | 0.05
Virgin Islands | 868,163 | 899,528 | 31,365 | 3.61
Outlying Areas Total | 3,061,235 | 3,047,718 | (13,517) | −0.44
National Reserve | 221,005,193 | 217,201,282 | (3,803,911) | −1.72
Evaluations set aside | 0 | 3,370,000 | 3,370,000 | N/A
* The revised PY 2013 allotments are the actual amounts the Department obligated to states for PY 2013 and include the reductions associated with sequestration on the FY 2013 advance (part of the PY 2012 allotments).

Table D—U.S. Department of Labor Employment and Training Administration Employment Service (Wagner-Peyser) PY 2014 vs PY 2013 Final Allotments
State | Final PY 2013 | Final PY 2014 | Difference | % Difference
Total | $664,183,664 | $664,184,000 | $336 | 0.00
Alabama | 8,569,344 | 8,502,449 | (66,895) | −0.78
Alaska | 7,219,993 | 7,219,997 | 4 | 0.00
Arizona | 12,527,937 | 12,467,698 | (60,239) | −0.48
Arkansas | 5,322,835 | 5,307,726 | (15,109) | −0.28
California | 79,878,737 | 79,586,271 | (292,466) | −0.37
Colorado | 10,701,027 | 10,685,065 | (15,962) | −0.15
Connecticut | 7,579,931 | 7,561,842 | (18,089) | −0.24
Delaware | 1,855,181 | 1,855,182 | 1 | 0.00
District of Columbia | 2,168,988 | 2,123,634 | (45,354) | −2.09
Florida | 38,965,509 | 38,551,390 | (414,119) | −1.06
Georgia | 19,478,108 | 19,608,469 | 130,361 | 0.67
Hawaii | 2,343,342 | 2,327,227 | (16,115) | −0.69
Idaho | 6,015,540 | 6,015,543 | 3 | 0.00
Illinois | 27,258,028 | 27,868,035 | 610,007 | 2.24
Indiana | 12,822,043 | 12,821,228 | (815) | −0.01
Iowa | 6,011,854 | 5,964,574 | (47,280) | −0.79
Kansas | 5,554,935 | 5,526,029 | (28,906) | −0.52
Kentucky | 8,512,743 | 8,506,643 | (6,100) | −0.07
Louisiana | 8,134,111 | 8,094,739 | (39,372) | −0.48
Maine | 3,577,384 | 3,577,386 | 2 | 0.00
Maryland | 11,522,943 | 11,906,489 | 383,546 | 3.33
Massachusetts | 13,248,486 | 13,409,175 | 160,689 | 1.21
Michigan | 21,625,084 | 21,291,774 | (333,310) | −1.54
Minnesota | 11,084,590 | 10,993,540 | (91,050) | −0.82
Mississippi | 5,719,384 | 5,674,402 | (44,982) | −0.79
Missouri | 11,976,795 | 11,888,860 | (87,935) | −0.73
Montana | 4,915,929 | 4,915,931 | 2 | 0.00
Nebraska | 5,725,191 | 5,605,477 | (119,714) | −2.09
Nevada | 6,161,654 | 6,117,652 | (44,002) | −0.71
New Hampshire | 2,642,832 | 2,650,012 | 7,180 | 0.27
New Jersey | 19,163,183 | 19,124,756 | (38,427) | −0.20
New Mexico | 5,516,538 | 5,516,541 | 3 | 0.00
New York | 38,535,164 | 38,504,428 | (30,736) | −0.08
North Carolina | 19,585,198 | 19,555,320 | (29,878) | −0.15
North Dakota | 5,005,887 | 5,005,890 | 3 | 0.00
Ohio | 23,954,983 | 23,710,251 | (244,732) | −1.02
Oklahoma | 6,384,955 | 6,461,834 | 76,879 | 1.20
Oregon | 8,218,324 | 8,138,876 | (79,448) | −0.97
Pennsylvania | 25,228,309 | 25,781,009 | 552,700 | 2.19
Puerto Rico | 7,059,087 | 6,911,482 | (147,605) | −2.09
Rhode Island | 2,471,893 | 2,453,424 | (18,469) | −0.75
South Carolina | 9,156,659 | 9,079,879 | (76,780) | −0.84
South Dakota | 4,626,591 | 4,626,593 | 2 | 0.00
Tennessee | 12,520,213 | 12,636,661 | 116,448 | 0.93
Texas | 47,277,917 | 47,954,459 | 676,542 | 1.43
Utah | 6,532,457 | 6,395,863 | (136,594) | −2.09
Vermont | 2,167,358 | 2,167,359 | 1 | 0.00
Virginia | 15,425,187 | 15,390,720 | (34,467) | −0.22
Washington | 13,893,830 | 13,819,721 | (74,109) | −0.53
West Virginia | 5,295,589 | 5,295,592 | 3 | 0.00
Wisconsin | 11,835,302 | 11,820,318 | (14,984) | −0.13
Wyoming | 3,589,533 | 3,589,535 | 2 | 0.00
State Total | 662,564,615 | 662,564,950 | 335 | 0.00
Guam | 310,787 | 310,787 | 0 | 0.00
Virgin Islands | 1,308,262 | 1,308,263 | 1 | 0.00
Outlying Areas Total | 1,619,049 | 1,619,050 | 1 | 0.00

Table E—U.S. Department of Labor Employment and Training Administration Workforce Information Grants to States PY 2014 vs PY 2013 Allotments
State | PY 2013 | PY 2014 | Difference | % Difference
Total | $31,939,520 | $32,000,000 | $60,480 | 0.19
Alabama | 507,498 | 507,835 | 337 | 0.07
Alaska | 289,152 | 289,243 | 91 | 0.03
Arizona | 611,887 | 612,836 | 949 | 0.16
Arkansas | 413,051 | 407,384 | (5,667) | −1.37
California | 2,494,284 | 2,512,037 | 17,753 | 0.71
Colorado | 577,616 | 581,206 | 3,590 | 0.62
Connecticut | 477,665 | 471,257 | (6,408) | −1.34
Delaware | 298,044 | 298,885 | 841 | 0.28
District of Columbia | 287,102 | 289,809 | 2,707 | 0.94
Florida | 1,377,539 | 1,391,578 | 14,039 | 1.02
Georgia | 824,786 | 831,404 | 6,618 | 0.80
Hawaii | 324,046 | 323,731 | (315) | −0.10
Idaho | 339,198 | 339,000 | (198) | −0.06
Illinois | 1,048,080 | 1,046,809 | (1,271) | −0.12
Indiana | 633,362 | 629,369 | (3,993) | −0.63
Iowa | 446,571 | 445,306 | (1,265) | −0.28
Kansas | 427,285 | 426,480 | (805) | −0.19
Kentucky | 496,768 | 498,878 | 2,110 | 0.42
Louisiana | 496,842 | 499,691 | 2,849 | 0.57
Maine | 330,683 | 331,051 | 368 | 0.11
Maryland | 620,509 | 626,679 | 6,170 | 0.99
Massachusetts | 666,310 | 669,155 | 2,845 | 0.43
Michigan | 812,448 | 815,743 | 3,295 | 0.41
Minnesota | 607,376 | 607,750 | 374 | 0.06
Mississippi | 407,924 | 405,143 | (2,781) | −0.68
Missouri | 612,833 | 610,737 | (2,096) | −0.34
Montana | 306,346 | 306,821 | 475 | 0.16
Nebraska | 368,239 | 370,589 | 2,350 | 0.64
Nevada | 411,657 | 411,954 | 297 | 0.07
New Hampshire | 334,747 | 335,427 | 680 | 0.20
New Jersey | 803,433 | 807,150 | 3,717 | 0.46
New Mexico | 357,589 | 358,969 | 1,380 | 0.39
New York | 1,408,967 | 1,414,730 | 5,763 | 0.41
North Carolina | 814,453 | 820,492 | 6,039 | 0.74
North Dakota | 291,774 | 293,355 | 1,581 | 0.54
Ohio | 950,865 | 944,285 | (6,580) | −0.69
Oklahoma | 463,255 | 465,806 | 2,551 | 0.55
Oregon | 486,746 | 480,795 | (5,951) | −1.22
Pennsylvania | 1,030,074 | 1,039,220 | 9,146 | 0.89
Puerto Rico | 400,028 | 389,936 | (10,092) | −2.52
Rhode Island | 312,502 | 312,805 | 303 | 0.10
South Carolina | 506,743 | 509,004 | 2,261 | 0.45
South Dakota | 298,818 | 299,407 | 589 | 0.20
Tennessee | 624,764 | 624,985 | 221 | 0.04
Texas | 1,778,866 | 1,796,213 | 17,347 | 0.98
Utah | 408,422 | 413,138 | 4,716 | 1.15
Vermont | 288,122 | 287,830 | (292) | −0.10
Virginia | 773,526 | 759,585 | (13,941) | −1.80
Washington | 671,854 | 668,760 | (3,094) | −0.46
West Virginia | 342,244 | 342,636 | 392 | 0.11
Wisconsin | 618,228 | 618,083 | (145) | −0.02
Wyoming | 281,744 | 282,229 | 485 | 0.17
State Total | 31,762,865 | 31,823,200 | 60,335 | 0.19
Guam | 93,009 | 93,090 | 81 | 0.09
Virgin Islands | 83,646 | 83,710 | 64 | 0.08
Outlying Areas Total | 176,655 | 176,800 | 145 | 0.08

Signed: at Washington, DC, on this 3rd day of April 2014.
Eric M. Seleznow,
Acting Assistant Secretary for Employment and Training.

[FR Doc. 2014-08166 Filed 4-10-14; 8:45 am]

BILLING CODE P